ENVIRONMENTAL PROTECTION AGENCY

[FRL-9940-45-OA]

Notification of a Public Meeting of the Clean Air Scientific Advisory Committee (CASAC) Sulfur Oxides Panel and a Public Teleconference of the Chartered CASAC and the CASAC Sulfur Oxides Panel

AGENCY: Environmental Protection Agency (EPA).

ACTION: Notice.

SUMMARY: The Environmental Protection Agency (EPA) Science Advisory Board (SAB) Staff Office announces a public meeting of the Clean Air Scientific Advisory Committee (CASAC) Sulfur Oxides Panel and a public teleconference of the Chartered CASAC and CASAC Sulfur Oxides Panel to review of EPA's Integrated Science Assessment (ISA) for Sulfur Oxides—Health Criteria (External Review Draft—November 2015).

DATES: The face-to-face meeting will be held on Wednesday, January 27, 2016, and Thursday, January 28, 2016. The teleconference will be held on Wednesday, April 6, 2016 from 2:00 p.m. to 6:00 p.m. (Eastern Time).

Location: The face-to-face meeting will be held at the DoubleTree by Hilton Hotel Raleigh-Brownstone-University, 1707 Hillsborough Street, Raleigh, North Carolina. The public teleconference will be held by telephone only. Call-in information will be available on the respective CASAC meeting Web pages or by contacting the Designated Federal Officer (DFO).

FOR FURTHER INFORMATION CONTACT: Any member of the public wishing to obtain information concerning the public meeting or teleconference may contact Mr. Aaron Yeow, DFO, EPA Science Advisory Board Staff Office (1400R), U.S. Environmental Protection Agency, 1200 Pennsylvania Avenue NW., Washington, DC 20460; by telephone/voice mail at (202) 564-2050 or at yeow.aaron@epa.gov. General information about the CASAC, as well as any updates concerning the meetings announced in this notice, may be found on the CASAC Web page at http://www.epa.gov/casac.

SUPPLEMENTARY INFORMATION: The CASAC was established pursuant to the Clean Air Act (CAA) Amendments of 1977, codified at 42 U.S.C. 7409(d)(2), to review air quality criteria and National Ambient Air Quality Standards (NAAQS) and recommend any new NAAQS and revisions of existing criteria and NAAQS as may be appropriate. The CASAC is a Federal Advisory Committee chartered under the Federal Advisory Committee Act (FACA), 5 U.S.C., App. 2. Section 109(d)(1) of the CAA requires that the Agency periodically review and revise, as appropriate, the air quality criteria and the NAAQS for the six “criteria” air pollutants, including sulfur oxides. EPA is currently reviewing the primary (health-based) NAAQS for sulfur dioxide (SO2), as an indicator for health effects caused by the presence of sulfur oxides in the ambient air. Pursuant to FACA and EPA policy, notice is hereby given that the CASAC Sulfur Oxides Panel will hold a public face-to-face meeting to review EPA's Integrated Science Assessment for Sulfur Oxides—Health Criteria (External Review Draft—November 2015). The CASAC Sulfur Oxides Panel will hold a public teleconference to discuss its draft peer review report and the Chartered CASAC will discuss the disposition of the panel's report at the end of the teleconference. The Chartered CASAC and CASAC Sulfur Oxides Panel will comply with the provisions of FACA and all appropriate SAB Staff Office procedural policies.

Technical Contacts: Any technical questions concerning the Integrated Science Assessment for Sulfur Oxides—Health Criteria (External Review Draft—November 2015) should be directed to Dr. Tom Long (long.tom@epa.gov), EPA Office of Research and Development.

Availability of Meeting Materials: Prior to the meeting, the review documents, agenda and other materials will be available on the CASAC Web page at http://www.epa.gov/casac/.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Interested members of the public may submit relevant written or oral information on the topic of this advisory activity, and/or the group conducting the activity, for the CASAC to consider during the advisory process. Input from the public to the CASAC will have the most impact if it provides specific scientific or technical information or analysis for CASAC panels to consider or if it relates to the clarity or accuracy of the technical information. Members of the public wishing to provide comment should contact the DFO directly. Oral Statements: In general, individuals or groups requesting an oral presentation at a public face-to-face meeting will be limited to five minutes and on a public teleconference will be limited to three minutes. Each person making an oral statement should consider providing written comments as well as their oral statement so that the points presented orally can be expanded upon in writing. Interested parties should contact Mr. Aaron Yeow, DFO, in writing (preferably via email) at the contact information noted above by January 20, 2016, to be placed on the list of public speakers for the face-to-face meeting and by March 30, 2016, for the teleconference. Written Statements: Written statements should be supplied to the DFO via email at the contact information noted above by January 20, 2016, for the face-to-face meeting and by March 30, 2016, for the teleconference so that the information may be made available to the Panel members for their consideration. It is the SAB Staff Office general policy to post written comments on the Web page for the advisory meeting or teleconference. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Mr. Aaron Yeow at (202) 564-2050 or yeow.aaron@epa.gov. To request accommodation of a disability, please contact Mr. Yeow preferably at least ten days prior to each meeting to give EPA as much time as possible to process your request.

Dated: December 14, 2015.
Thomas H. Brennan,
Deputy Director, EPA Science Advisory Staff Office.

[FR Doc. 2015-31996 Filed 12-18-15; 8:45 am]

BILLING CODE 6560-50-P